DEPARTMENT OF LABOR

Employment and Training Administration

Investigations Regarding Certifications of Eligibility To Apply for Worker Adjustment Assistance and Alternative Trade Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 31, 2007.

Interested persons are invited to submit written comments regarding the subject matter of the investigations to the Director, Division of Trade Adjustment Assistance, at the address shown below, not later than December 31, 2007.

The petitions filed in this case are available for inspection at the Office of the Director, Division of Trade Adjustment Assistance, Employment and Training Administration, U.S. Department of Labor, Room C-5311, 200 Constitution Avenue, NW., Washington, DC 20210.

Signed at Washington, DC, this 12th day of December 2007.
Ralph DiBattista,
Director, Division of Trade Adjustment Assistance.

Appendix
[TAA petitions instituted between 12/3/07 and 12/7/07]
TA-W | Subject Firm (Petitioners) | Location | Date of Institution | Date of Petition
62521 | JRL Enterprises (Comp) | Falconer, NY | 12/03/07 | 11/28/07
62522 | Alcoa/Tifton Aluminum (State) | Tifton, GA | 12/03/07 | 11/29/07
62523 | Wolverine Tube, Inc. (Comp) | Decatur, AL | 12/03/07 | 11/30/07
62524 | Kester, Inc. (Wkrs) | Itasca, IL | 12/03/07 | 11/30/07
62525 | Magna Donnelly Engineered (Comp) | Holland, MI | 12/03/07 | 11/30/07
62526 | Bulk Bag Express (State) | Malvern, AR | 12/03/07 | 11/30/07
62527 | Dievelopment (Comp) | Kentwood, MI | 12/03/07 | 11/26/07
62528 | Holophane/Acuity (Wkrs) | Utica, OH | 12/03/07 | 11/29/07
62529 | Leitchfield Plastics (Comp) | Leitchfield, KY | 12/03/07 | 11/29/07
62530 | Cooper Standard Automotive (UAW) | New Lexington, OH | 12/04/07 | 11/27/07
62531 | Nova Measuring Instruments, Inc. (Wkrs) | State College, PA | 12/04/07 | 11/20/07
62532 | Hoover Company (The) by TTI Floor Care North America, Inc. (Comp) | North Canton, OH | 12/04/07 | 12/03/07
62533 | Pilot Hosiery Mills, Inc. (Wkrs) | Pilot Mountain, NC | 12/04/07 | 11/29/07
62534 | S and Z Tool and Die (UAW) | Cleveland, OH | 12/04/07 | 11/30/07
62535 | Panolam/Nevamar Decorative Surfaces Division (Wkrs) | Oshkosh, WI | 12/05/07 | 12/03/07
62536 | Tower Auto Operations (State) | Granite City, IL | 12/05/07 | 12/04/07
62537 | Rockford Corporation (Comp) | Tempe, AZ | 12/05/07 | 12/05/07
62538 | ITW Foils (Wkrs) | Mt. Pleasant, MI | 12/05/07 | 12/04/07
62539 | Wolverine Tube (Wkrs) | Booneville, MS | 12/05/07 | 12/04/07
62540 | Culp, Inc (Comp) | High Point, NC | 12/05/07 | 11/30/07
62541 | General Electric (Wkrs) | West Burlington, IA | 12/06/07 | 11/29/07
62542 | Syntax—Brillian (Wkrs) | Tempe, AZ | 12/06/07 | 11/28/07
62543 | McNeil Consumer Healthcare (Comp) | Parsippany, NJ | 12/06/07 | 12/05/07
62544 | XL Capital/XL Specialty Insurance Company (Wkrs) | Exton, PA | 12/06/07 | 11/30/07
62545 | William Wright Company (Comp) | West Warren, MA | 12/07/07 | 12/04/07
62546 | RemyReman LLC (Comp) | Raleigh, MS | 12/07/07 | 12/06/07

[FR Doc. E7-24539 Filed 12-18-07; 8:45 am]

BILLING CODE 4510-FN-P